Memorandum of March 13, 2015

Providing an Order of Succession Within the Council on Environmental Quality

Memorandum for the Chairman of the Council on Environmental Quality

By the authority vested in me as President by the Constitution and the laws of the United States of America, including the Federal Vacancies Reform Act of 1998, 5 U.S.C. 3345 et seq. (the “Act”), it is hereby ordered that:

Section 1. Order of Succession. Subject to the provisions of section 2 of this memorandum and to the limitations set forth in the Act, the following officials of the Council on Environmental Quality, in the order listed, shall act as and perform the functions and duties of the office of the Chairman of the Council on Environmental Quality (Chairman), during any period in which the Chairman has died, resigned, or is otherwise unable to perform the functions and duties of that office:

(a) Managing Director;

(b) Chief of Staff;

(c) General Counsel; and

(d) Associate Directors in the order in which they have been appointed as such.

Sec. 2. Exceptions. (a) No individual who is serving in an office listed in section 1 of this memorandum in an acting capacity, by virtue of so serving, shall act as Chairman pursuant to this memorandum.

(b) No individual listed in section 1 of this memorandum shall act as Chairman unless that individual is otherwise eligible to so serve under the Act.

(c) Notwithstanding the provisions of this memorandum, the President retains discretion, to the extent permitted by law, to depart from this memorandum in designating an acting Chairman.

Sec. 3. Revocation. The Presidential Memorandum of September 18, 2008 (Designation of Officers of the Council on Environmental Quality to Act as Chairman of the Council on Environmental Quality), is hereby revoked.

Sec. 4. General Provisions. (a) Nothing in this memorandum shall be construed to impair or otherwise affect:

(i) the authority granted by law to an agency, or the head thereof; or

(ii) the functions of the Director of the Office of Management and Budget relating to budgetary, administrative, or legislative proposals.

(b) This memorandum is not intended to, and does not, create any right or benefit, substantive or procedural, enforceable at law or in equity by any party against the United States, its departments, agencies, or entities, its officers, employees, or agents, or any other person.

(c) You are hereby authorized and directed to publish this memorandum in the Federal Register.

THE WHITE HOUSE,

Washington, March 13, 2015

[FR Doc. 2015-06383

Filed 3-17-15; 11:15 am]

Billing code 3125-WO